NATIONAL SCIENCE FOUNDATION

National Science Board; Sunshine Act Meetings; Notice

The National Science Board's ad hoc Task Force on NEON Performance and Plans, pursuant to NSF regulations (45 CFR part 614), the National Science Foundation Act, as amended (42 U.S.C. 1862n-5), and the Government in the Sunshine Act (5 U.S.C. 552b), hereby gives notice in regard to the scheduling of a meeting for the transaction of National Science Board business, as follows:

DATE AND TIME: Friday, September 11, 2015 at 10-11:30 a.m. EDT.

SUBJECT MATTER: Task Force Chair's opening remarks; discussion of background documents, including a table that summarizes near-term deliverables and metrics for NEON, Inc.

STATUS: Closed.

This meeting will be held by teleconference originating at the National Science Board Office, National Science Foundation, 4201Wilson Blvd., Arlington, VA 22230.

Please refer to the National Science Board Web site (www.nsf.gov/nsb) for information or schedule updates, or contact: John Veysey (jveysey@nsf.gov), National Science Foundation, 4201Wilson Blvd., Arlington, VA 22230.

Kyscha Slater-Williams,
Program Specialist.

[FR Doc. 2015-23208 Filed 9-11-15; 11:15 am]

BILLING CODE 7555-01-P